DEPARTMENT OF COMMERCE

National Oceanic and Atmospheric Administration

RIN 0648-XD35

Taking and Importing Marine Mammals; Taking Marine Mammals Incidental to a U.S. Navy Shock Trial

AGENCY: National Marine Fisheries Service (NMFS), National Oceanic and Atmospheric Administration (NOAA), Commerce.

ACTION: Notice; receipt of application for implementation of regulations and a letter of authorization; request for comments and information.

SUMMARY: NMFS has received a request from the U.S. Navy (Navy) for implementation of regulations and an authorization for the taking of marine mammals incidental to conducting a Full Ship Shock Trial (FSST) of the MESA VERDE (LPD-19) in the offshore waters of the Atlantic Ocean off Mayport, FL. Pursuant to the Marine Mammal Protection Act (MMPA), NMFS is announcing our receipt of the Navy's request for the development and implementation of regulations governing the incidental taking of marine mammals and inviting information, suggestions, and comments on the Navy's application and request.

DATES: Comments and information must be received no later than November 26, 2007.

ADDRESSES: Comments on the application should be addressed to Michael Payne, Chief, Permits, Conservation and Education Division, Office of Protected Resources, National Marine Fisheries Service, 1315 East-West Highway, Silver Spring, MD 20910-3225. The mailbox address for providing email comments is PR1.XD35@noaa.gov. NMFS is not responsible for e-mail comments sent to addresses other than the one provided here. Comments sent via e-mail, including all attachments, must not exceed a 10-megabyte file size.

A copy of the Navy's application may be obtained by writing to the address specified above (See ADDRESSES), telephoning the contact listed above (see FOR FURTHER INFORMATION CONTACT), or visiting the internet at: http://www.nmfs.noaa.gov/pr/permits/incidental.htm.

FOR FURTHER INFORMATION CONTACT: Ken Hollingshead, Office of Protected Resources, NMFS, (301) 713-2289, ext. 128.

SUPPLEMENTARY INFORMATION:

Background

Sections 101(a)(5)(A) and (D) of the MMPA (16 U.S.C. 1361 et seq.) direct the Secretary of Commerce (Secretary) to allow, upon request, the incidental, but not intentional taking of marine mammals by U.S. citizens who engage in a specified activity (other than commercial fishing) if certain findings are made and regulations are issued or, if the taking is limited to harassment, notice of a proposed authorization is provided to the public for review.

Authorization for incidental takings will be granted if NMFS finds that the taking will have a negligible impact on the affected species or stock(s), will not have an unmitigable adverse impact on the availability of the species or stock(s) for certain subsistence uses, and if the permissible methods of taking and the requirements pertaining to the mitigation, monitoring and reporting of such taking are set forth.

NMFS has defined “negligible impact” in 50 CFR 216.103 as an impact resulting from the specified activity that cannot be reasonably expected to, and is not reasonably likely to, adversely affect the species or stock through effects on annual rates of recruitment or survival.

With respect to military readiness activities, the MMPA defines “harassment” as:

(i) any act that injures or has the significant potential to injure a marine mammal or marine mammal stock in the wild [Level A Harassment]; or (ii) any act that disturbs or is likely to disturb a marine mammal or marine mammal stock in the wild by causing disruption of natural behavioral patterns, including, but not limited to, migration, surfacing, nursing, breeding, feeding, or sheltering, to a point where such behavioral patterns are abandoned or significantly altered [Level B Harassment].

Summary of Request

On June 25, 2007, NMFS received an application from the Navy requesting implementation of regulations and authorization for the taking of marine mammals incidental to its conducting an FSST during a four-week period in the spring/summer of 2008 utilizing the MESA VERDE (LPD 19), a new amphibious transport dock ship. The shock trial of the MESA VERDE would consist of up to four underwater detonations of a nominal 4,536 kilogram (10,000 lb) charge at a rate of one detonation per week. The purpose of the proposed action is to generate data to assess the survivability of SAN ANTONIO Class amphibious transport dock ships. An entire manned ship must undergo an at-sea shock trial to obtain survivability data that are not obtainable through computer modeling and component testing on machines or surrogates. Navy ship design, crew training, and survivability lessons learned during previous shock trials, and total ship survivability trials, have proven their value by increasing a ship's ability to survive battle damage.

Each new class of surface ships must undergo realistic survivability testing to assess the survivability of the hull and the ship's systems, and to evaluate the ship's capability to protect the crew from an underwater explosion. The Navy has developed the shock trial to meet its obligation to perform realistic survivability testing. A shock trial consists of a series of underwater detonations that propagate a shock wave through the ship's hull under deliberate and controlled conditions. The effects of the shock wave on the ship's hull, equipment, and personnel safety features are then evaluated. This information would be used by the Navy to validate or improve the survivability of the SAN ANTONIO Class, thereby reducing the risk of injury to the crew, and damage to or loss of a ship. The proposed shock trial qualifies as a military readiness activity as defined in Section 315(f) of Public Law 107-314; 16 U.S.C. 703 note.

Marine Mammals

A summary of the marine mammal species found in the Mayport, FL, area is presented here. For more detail on marine mammal abundance, density and the methods used to obtain this information, reviewers are requested to refer to either the Navy application or the Navy DEIS (see ADDRESSES). Up to 29 marine mammal species may be present in the waters off Mayport, FL, including 7 mysticetes and 22 odontocetes. Mysticetes are unlikely to occur at Mayport during the spring or summer time period. Odontocetes may include the sperm whale, dwarf and pygmy sperm whale, 4 species of beaked whales, and 15 species of dolphins and porpoises.

Potential Impacts

Potential impacts on several marine mammal species known to occur in the area offshore of Mayport, FL from shock testing include both lethal and non-lethal injury, as well as harassment. Death or injury may occur as a result of the explosive blast, and injury may occur as a result of non-injurious physiological responses to the explosion-generated shockwave and its acoustic signature. The Navy believes it is very unlikely that injury will occur from exposure to the chemical by-products released into the surface waters, and no permanent alteration of marine mammal habitat would occur. While the Navy does not anticipate any lethal takes would result from these detonations due to mitigation and monitoring measures that are proposed to be undertaken by the Navy, marine mammal density-based calculations indicate that the Mayport site has the potential to result in up to 1 mortality, 2 Level A harassments (injuries), and 282 takings by Level B (behavioral) harassment.

Mitigation

The Navy's proposed action includes mitigation that would minimize risk to marine mammals and sea turtles. The Navy proposes to (1) through pre-detonation aerial surveys, select a test area within the chosen site location with the lowest number of marine mammals and sea turtles; (2) monitor the area visually (aerial and shipboard monitoring) before each test and postpone detonation if any marine mammal is detected within a range that has a potential to cause injury; and (3) monitor the area after each test to locate any injured animals. If post-detonation monitoring shows that marine mammals were killed or injured as a result of the test, testing would be halted until procedures for subsequent detonations could be reviewed and changed as necessary. NMFS may propose and require additional mitigation through its rulemaking and Endangered Species Act (ESA) consultation.

NEPA

The Navy has released a Draft Environmental Impact Statement (Draft EIS) for the MESA VERDE FSST to the public. This document is available for viewing and downloading at http://www.mesaverdeeis.com. NMFS is a cooperating agency, as defined by the Council on Environmental Quality (40 CFR 1501.6), in the preparation of this EIS. Because NMFS is a cooperating agency, NMFS staff will be present at the associated public meetings to discuss NMFS' participation in the development of the EIS as well as the MMPA process. The dates and times of the public meetings may be viewed at: http://www.mesaverdeeis.com.

ESA

The Navy will be consulting with NMFS under section 7 of the ESA on this action. This consultation will be concluded prior to a determination on issuance regulations and an MMPA authorization to the Navy for this action.

Information Solicited

Interested persons may submit information, suggestions, and comments concerning the Navy's request (see ADDRESSES). All information, suggestions, and comments related to the Navy's FSST request and NMFS' potential development and implementation of regulations governing the incidental taking of marine mammals by the Navy in the Mayport, FL, area will be considered by NMFS in developing regulations governing the issuance of letters of authorization.

Dated: October 16, 2007.
Helen Golde,
Deputy Office Director, Office of Protected Resources, National Marine Fisheries Service.

[FR Doc. E7-21095 Filed 10-25-07; 8:45 am]

BILLING CODE 3510-22-S